DEPARTMENT OF THE TREASURY

Internal Revenue Service

26 CFR Part 1

[REG-137573-07]

RIN 1545-BH20

Guidance Under Section 1502; Amendment of Matching Rule for Certain Gains on Member Stock

Correction

In proposed rule document E8-4571 beginning on page 12312 in the issue of Friday, March 7, 2008, make the following corrections:

§ 1.1502-13 [Corrected]

1. On page 12313, in the first column, in § 1.1502-13(c)(6)(ii)(C)(1), in the fifth line, “Register.” should read “Register].”.

2. On the same page, in the same column, in § 1.1502-13(c)(6)(ii)(C)(2), in the fifth line, “Register.” should read “Register].”.

[FR Doc. Z8-4571 Filed 4-10-08; 8:45 am]

BILLING CODE 1505-01-D